DEPARTMENT OF THE INTERIOR

Bureau of Land Management

DEPARTMENT OF AGRICULTURE

Forest Service

[CA-668-03-1610-DP]

Notice of Availability of Santa Rosa and San Jacinto Mountains National Monument Draft Resource Management Plan and Draft Environmental Impact Statement

AGENCY: Bureau of Land Management, Department of the Interior and Forest Service, Department of Agriculture.

ACTION: Notice of availability of Santa Rosa and San Jacinto Mountains National Monument draft resource management plan and draft environmental impact statement.

SUMMARY: In compliance with Bureau of Land Management (BLM) planning regulations, title 43 Code of Federal Regulations (CFR) 1610.2(f)(3) and title 40 CFR 1502.9(a), the BLM and Forest Service (FS) hereby gives notice that the Draft Santa Rosa and San Jacinto Mountains National Monument Management Plan, and Draft Environmental Impact Statement (EIS) is available for public review and comment. The 272,000 acre Monument encompasses 86,400 acres of Bureau of Land Management lands, 64,400 acres of Forest Service lands, 23,000 acres of Agua Caliente Band of Cahuilla Indians lands, 8,500 acres of California Department of Parks and Recreation lands, 35,800 acres of other State of California agencies lands, and 53,900 acres of private land.

DATES: Written comments on the Draft RMP/EIS will be accepted for 90 days following the date the Environmental Protection Agency publishes the Notice of Availability in the Federal Register. Future meetings or hearings and any other public involvement activities will be announced at least 15 days in advance through local media.

ADDRESSES: Written comments may be mailed to Danella George, Monument Manager, Santa Rosa and San Jacinto Mountains National Monument Management Plan, Palm Springs-South Coast Field Office, P.O. Box 581260, 690 W. Garnet Avenue, North Palm Springs, CA 92258. You may also comment via the Internet to ca_srsj_nm@ca.blm.gov. Please submit Internet comments as an ASCII file, avoiding the use of special characters and any form of encryption. Please also include in the subject line: “National Monument Management Plan and EIS” and your name and return address in your Internet message. If you do not receive a confirmation from the system that we have received your Internet message, contact Connell Dunning at (760) 251-4817. Finally, you may hand-deliver comments to the address listed above. Oral comments will be accepted and recorded at any of three public meetings to be held during the month of March or April, 2003. Please contact Connell Dunning at (760) 251-4817 or cdunning@ca.blm.gov for further information as to exact dates, place and time. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Connell Dunning at (760) 251-4817 or cdunning@ca.blm.gov.

SUPPLEMENTARY INFORMATION: A copy of the Draft Santa Rosa and San Jacinto Mountains National Monument Management Plan, and Draft Environmental Impact Statement is available for review via the internet at http://www.ca.blm.gov/palmsprings. Electronic (on CD-ROM) and paper copies may also be obtained by contacting Connell Dunning at the aforementioned addresses and phone number. This draft Santa Rosa and San Jacinto Mountains National Monument Management Plan is being developed cooperatively between BLM and FS. The draft plan includes strategies for protecting and preserving the biological, cultural, recreational, geological, educational, scientific, and scenic values that the Monument was established to protect. The preferred alternative supports the protection and preservation of the above values and includes efforts to achieve consistency between Forest Service and BLM as well as with other land managing agencies within the boundary of the Monument. The range of alternatives in this draft plan does not reevaluate planning decisions recently brought forward through the BLM Coachella Valley California Desert Conservation Area Plan Amendment or items being addressed through the Forest Service San Bernardino National Forest Plan Revision. Records of Decision will be prepared by the BLM and FS for the Santa Rosa and San Jacinto Mountains National Monument Management Plan in accordance with planning regulations at 43 CFR 1610 and NEPA. The Santa Rosa and San Jacinto Mountains National Monument was established by Pub. L. 106-351 and will be cooperatively managed by the Bureau of Land Management (BLM) and the U.S. Forest Service (USFS). The Santa Rosa and San Jacinto Mountains National Monument Act of 2000 affects only Federal lands and Federal interests located within the established boundaries. The BLM and the Forest Service will jointly manage Federal lands in the National Monument in coordination with the Agua Caliente Band of Cahuilla Indians, other Federal agencies, State agencies and local governments.

Dated: February 5, 2003.
Danella George,
Designated Federal Official, National Monument Manager.
Laurie Rosenthal,
District Ranger, San Jacinto Ranger District, San Bernardino National Forest.

[FR Doc. 03-5896 Filed 3-20-03; 8:45 am]

BILLING CODE 4310-40-P